ENVIRONMENTAL PROTECTION AGENCY

[FRL OP-OFA-184]

Environmental Impact Statements; Notice of Availability

Responsible Agency: Office of Federal Activities, General Information 202-564-5632 or https://www.epa.gov/nepa.

Weekly receipt of Environmental Impact Statements (EIS)

Filed June 13, 2025 10 a.m. EST Through June 23, 2025 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250087, Final, TVA, AL, Hillsboro Solar, Review Period Ends: 07/28/2025, Contact: Elizabeth Smith 865-632-3053.

EIS No. 20250088, Final, NRC, CA, NUREG-1437, Supplement 62, Generic Environmental Impact Statement for License Renewal of Nuclear Plants: Regarding License Renewal of Diablo Canyon Nuclear Power Plant, Units 1 and 2, Final Report, Review Period Ends: 07/28/2025, Contact: Kim Conway 301-415-1335.

EIS No. 20250090, Draft, TVA, AL, Spring Valley II Solar Project, Comment Period Ends: 08/11/2025, Contact: Elizabeth Smith 865-632-3053.

EIS No. 20250091, Draft, DOC, NY, Micron Semiconductor Manufacturing Facility, Clay, NY, Comment Period Ends: 08/11/2025, Contact: David Frenkel 240-204-1960.

EIS No. 20250092, Final, NYCHA, NYCHPD, NY, Fulton Elliott-Chelsea Redevelopment Project, Review Period Ends: 07/28/2025, Contact: Anthony Howard 212-863-7248.

Dated: June 24, 2025.
Nancy Abrams,
Associate Director, Office of Federal Activities.

[FR Doc. 2025-11799 Filed 6-26-25; 8:45 am]

BILLING CODE 6560-50-P